DEPARTMENT OF DEFENSE

Office of the Secretary

[Docket ID DOD-2012-OS-0077]

Privacy Act of 1974; System of Records

AGENCY: Defense Security Service, DoD.

ACTION: Notice to Delete Four Systems of Records.

SUMMARY: The Defense Security Service is deleting four systems of records notices from its existing inventory of record systems subject to the Privacy Act of 1974, as amended.

DATES: This proposed action will be effective without further notice on July 27, 2012 unless comments are received which result in a contrary determination.

ADDRESSES: You may submit comments, identified by docket number and title, by any of the following methods:

• Federal Rulemaking Portal: http://www.regulations.gov.

Follow the instructions for submitting comments.

• Mail: Federal Docket Management System Office, 4800 Mark Center Drive, East Tower, 2nd Floor, Suite 02G09, Alexandria, VA 22350-3100.

Instructions: All submissions received must include the agency name and docket number for this Federal Register document. The general policy for comments and other submissions from members of the public is to make these submissions available for public viewing on the Internet at http://www.regulations.gov as they are received without change, including any personal identifiers or contact information.

FOR FURTHER INFORMATION CONTACT: Mr. Leslie Blake, Defense Security Service, Office of FOIA/PA, 27130 Telegraph Road, Quantico, VA 22314 or at (571) 305-6740.

SUPPLEMENTARY INFORMATION: The Defense Security Service systems of records notices subject to the Privacy Act of 1974 (5 U.S.C. 552a), as amended, have been published in the Federal Register and are available from the address in FOR FURTHER INFORMATION CONTACT.

The proposed deletions are not within the purview of subsection (r) of the Privacy Act of 1974 (5 U.S.C. 552a), as amended, which requires the submission of a new or altered system report.

Dated: June 21, 2012.
Aaron Siegel,
Alternate OSD Federal Register Liaison Officer, Department of Defense.

Deletions:

V5-05

Joint Personnel Adjudication System (JPAS) (July 1, 2005, 70 FR 38120)

V5-01

Investigative Records Repository (IRR) (September 30, 2011, 76 FR 60812)

Reason:

JPAS and IRR have been transferred to the Office of the Secretary, DoD/Joint Staff (DMDC 12 DoD, Joint Personnel Adjudication System (JPAS) (May 3, 2011, 76 FR 24863) and DMDC 11 DoD, Investigative Records Repository (IRR) (September 30, 2011, 76 FR 60812, respectively). All records associated with these programs were transferred with the systems; therefore these systems of records notices can now be deleted.

V5-03

Case Control Management System (CCMS) (September 14, 1999, 64 FR 49776)

Reason:

The Case Control Management System (CCMS) data was migrated into DMDC 12 DoD, Joint Personnel Adjudication System (JPAS) (May 3, 2011, 76 FR 24863) upon its development. There is no longer a need to retain backup data since JPAS is fully operational, therefore the system of records can now be deleted.

V10-01

Investigation and Inspection Supplier Contract Files (August 17, 1999, 64 FR 44704)

Reason:

The Investigation and Inspection Supplier Contract Files contained copies of contracts and payment data on individual contractors who performed investigations/inspections for Defense Security Service (DSS) on an as needed basis. DSS has not used contractors since 2003 so the data was destroyed in accordance with approved financial data retention schedules; therefore this system can now be deleted.

[FR Doc. 2012-15609 Filed 6-26-12; 8:45 am]

BILLING CODE 5001-06-P